DEPARTMENT OF HEALTH AND HUMAN SERVICES

Office of the Assistant Secretary for Planning and Evaluation; Advisory Council on Alzheimer's Research, Care, and Services

AGENCY: Office of the Assistant Secretary for Planning and Evaluation, Department of Health and Human Services.

ACTION: Notice of establishment of the Advisory Council on Alzheimer's Research, Care, and Services and request for nominations.

SUMMARY: The National Alzheimer's Project Act, Public Law 111-375 (42 U.S.C. 11225), requires that the Secretary of Health and Human Services (HHS) establish the Advisory Council on Alzheimer's Research, Care, and Services. The Advisory Council is governed by provisions of Public Law 92-463 (5 U.S.C. Appendix 2), which sets forth standards for the formation and use of advisory committees. The Secretary of HHS has determined that establishment of the Advisory Council on Alzheimer's Research, Care, and Services is desirable to provide advice and consultation to the Secretary on how to prevent or reduce the burden of Alzheimer's disease and related dementias on people with the disease and their caregivers. The Secretary signed the charter establishing the Advisory Council on May 23, 2011. HHS is soliciting nominations for non-Federal members of the Advisory Council. Nominations should include the nominee's contact information (current mailing address, e-mail address, and telephone number) and a current curriculum vitae or resume.

DATES: Submit nominations by e-mail or USPS mail before COB on June 30, 2011.

ADDRESSES: Nominations should be sent to Helen Lamont at helen.lamont@hhs.gov; Helen Lamont, Ph.D., Office of the Assistant Secretary for Planning and Evaluation, Room 424E Humphrey Building, Department of Health and Human Services, 200 Independence Avenue, SW., Washington, DC 20201.

Comments

FOR FURTHER INFORMATION CONTACT: Helen Lamont (202) 690-7996, helen.lamont@hhs.gov.

SUPPLEMENTARY INFORMATION: The Advisory Council on Alzheimer's Research, Care, and Services shall meet quarterly to discuss programs that impact people with Alzheimer's disease and related dementias and their caregivers. The Advisory Council shall make recommendations about ways to reduce the financial impact of Alzheimer's disease and related dementias and to improve the health outcomes of people with these conditions. The Advisory Council shall provide feedback on a National Plan for Alzheimer's disease. On an annual basis, the Advisory Council shall evaluate the implementation of the recommendations through an updated national plan.

The Advisory Council shall consist of at least 22 members. Ten members will be designees from Federal agencies including the Centers for Disease Control and Prevention, Administration on Aging, Centers for Medicare and Medicaid Services, Indian Health Service, Office of the Director of the National Institutes of Health, National Science Foundation, Department of Veterans Affairs, Food and Drug Administration, Agency for Healthcare Research and Quality, and the Surgeon General.

The Advisory Council shall also consist of 12 non-federal members selected by the Secretary who are Alzheimer's patient advocates (2), Alzheimer's caregivers (2), health care providers (2), representatives of State health departments (2), researchers with Alzheimer's-related expertise in basic, translational, clinical, or drug development science (2), and voluntary health association representatives (2). The Secretary shall appoint one of the members to serve as the Chair. Members shall be invited to serve for overlapping 4 year terms, except that any member appointed to fill a vacancy for an unexpired term shall be appointed for the remainder of such term. A member may serve after the expiration of the member's term until a successor has taken office. Members will serve as Special Government Employees.

Dated: June 3, 2011.
Sherry Glied,
Assistant Secretary for Planning and Evaluation.

[FR Doc. 2011-14366 Filed 6-9-11; 8:45 am]

BILLING CODE P